CONSUMER PRODUCT SAFETY COMMISSION

All-Terrain Vehicles; Commission Resolution

AGENCY: Consumer Product Safety Commission.

ACTION: Notice.

SUMMARY: The Consumer Product Safety Commission (“Commission”) hereby announces its issuance of a Resolution commending Cannondale Corporation (“Cannondale”) for the company's action plan regarding all-terrain vehicle (“ATV”) safety.

Historical information regarding ATV safety-related actions by the Commission and the major manufacturers of ATVs is included in the Commission's Federal Register notice of September 9, 1998 (63 FR 48199). That notice also requested public comment on whether the Commission should issue a Resolution commending certain members of the industry for their ATV action plans. After consideration of public comments, the Commission issued its Resolution commending those industry members (63 FR 67861). The Commission subsequently announced issuance of a Resolution commending another member of the ATV industry for its action plan regarding ATV safety (64 FR 15350). Cannondale has agreed, in its action plan, to take safety-related actions that are comparable to those taken by members of the ATV industry that the Commission commended in its previous Resolutions.

FOR FURTHER INFORMATION CONTACT: For further information about the Resolution, call or write Leonard H. Goldstein, Office of the General Counsel, Consumer Product Safety Commission, Washington, DC 20207, (301) 504-0980, Ext. 2202.

Dated: January 23, 2001.
Sadye E. Dunn,
Secretary, Consumer Product Safety Commission.

Resolution of the United States Consumer Product Safety Commission Commending Cannondale Corporation

The United States Consumer Product Safety Commission (the “Commission”), by vote on January 5, 2001, RESOLVES THAT:

Whereas, Cannondale Corporation (“Cannondale”) has announced its intention to sell ATVs in the United States; and

Whereas, Cannondale has agreed to undertake voluntary actions (“Cannondale's Action Plan”) that are comparable to those being undertaken by other manufacturers of ATVs that the Commission has commended (See 63 FR 67861 and 64 FR 15350), including actions to (i) promote training, including through the offer of a cash incentive to first-time purchasers, (ii) participate with other manufacturers of ATVs in an information and education safety campaign emphasizing, among other things, the risks created when children younger than 16 operate or ride on adult-size ATVs, (iii) not market, sell or offer to sell adult-size ATVs to or for use by children younger than 16, (iv) not market or sell three-wheel ATVs, (v) provide safety information on or with ATVs, including giving an ATV Safety Alert to each purchaser, (vi) retain the services of an independent organization to conduct the undercover monitoring of an agreed-upon minimum number of randomly selected dealers to monitor compliance with minimum age requirements, (vii) undertake various other safety measures, and (viii) notify the Commission at least 60 days in advance of any material changes to Cannondale's ATV Action Plan; and

Whereas, a copy of Cannondale's ATV Action Plan is available to the public upon request to the Commission's Office of the Secretary; and

Whereas, notwithstanding implementation of Cannondale's ATV Action Plan, the Commission reserves all its statutory enforcement, regulatory and oversight powers with respect to ATVs.

Now, Therefore:

1. The Commission commends Cannondale for its ATV Action Plan, which the Commission believes will provide safety benefits to consumers.

2. The Commission will actively monitor the voluntary actions of Cannondale and other manufacturers of ATVs by, among other things, conducting undercover inspections of ATV dealerships to ensure compliance with age recommendations and other requirements, and collecting and assessing information regarding the effectiveness of training incentives. The Commission will take appropriate action based on the results of the monitoring activity. The Commission also will continue to track the death and injury rate associated with ATVs and reserves its authority to take action based on this data.

[FR Doc. 01-2421 Filed 1-26-01; 8:45 am]

BILLING CODE 6355-01-P